DEPARTMENT OF EDUCATION

Notice of Proposed Extension of Project Period and Waiver for the Puerto Rico State Technical Assistance (TA) Project To Improve Services and Results for Children Who Are Deaf-Blind

AGENCY: Office of Special Education Programs, Office of Special Education and Rehabilitative Services, Department of Education.

ACTION: Notice of proposed extension of project period and waiver for the Puerto Rico State Technical Assistance (TA) Project to Improve Services and Results for Children Who Are Deaf-Blind.

SUMMARY: The Secretary proposes to waive the requirements in the Education Department General Administrative Regulations (EDGAR), in 34 CFR 75.250 and 75.261(a), respectively, that generally prohibit project periods exceeding five years and extensions of project periods involving the obligation of additional Federal funds. This extension of project period and waiver will enable the currently funded Puerto Rico State TA Project to Improve Services and Results for Children Who Are Deaf-Blind to receive funding from October 1, 2008 through September 30, 2009.

DATES: We must receive your comments on or before September 8, 2008.

ADDRESSES: Address all comments concerning this proposed extension and waiver to Anne Smith, U.S. Department of Education, 400 Maryland Avenue, SW., Room 4086, Potomac Center Plaza, Washington, DC 20202-2641. Telephone: (202) 245-7529. If you prefer to send your comments through the Internet, use the following address: anne.smith@ed.gov.

FOR FURTHER INFORMATION CONTACT: Anne Smith. Telephone: (202) 245-7529.

If you use a telecommunications device for the deaf (TDD), call the Federal Relay Service (FRS), toll-free, at 1-800-877-8339. Individuals with disabilities may obtain this document in an alternative format (e.g., Braille, large print, audiotape, or computer diskette) on request to the contact person listed under FOR FURTHER INFORMATION CONTACT.

SUPPLEMENTARY INFORMATION:

Invitation to Comment

We invite you to submit comments regarding this proposed extension of project period and waiver.

During and after the comment period, you may inspect all public comments about this proposed extension of project period and waiver in Room 4086, Potomac Center Plaza, 550 12th Street, SW., Washington, DC, between the hours of 8:30 a.m. and 4 p.m., Eastern time, Monday through Friday of each week except Federal holidays.

Assistance to Individuals With Disabilities in Reviewing the Rulemaking Record

On request, we will supply an appropriate aid, such as a reader or print magnifier, to an individual with a disability who needs assistance to review the comments or other documents in the public rulemaking record for this proposed extension of project period and waiver. If you want to schedule an appointment for this type of aid, please contact the person listed under FOR FURTHER INFORMATION CONTACT.

Background

The Department published a notice in the Federal Register on July 3, 2003 (68 FR 39902), inviting applications for awards for fiscal year (FY) 2003. Based on that notice, the Department made 48 awards, including one award for a period of 60 months to the Puerto Rico Department of Education, in order to build the capacity of the State, parents, and professionals to improve outcomes for children and young adults who are deaf-blind and their families by providing TA, information, and training on early intervention, special education, related services, and transitional services. The Department published a notice inviting applications for awards for FY 2008 on March 25, 2008 (73 FR 15444). The Puerto Rico Department of Education submitted an application, but the budget request was above the maximum amount allocated to them, and, therefore, the application was ineligible for review. Given the severity of deaf-blindness and the low incidence of this population, it is important to ensure continuation of State TA services for children who are deaf-blind in Puerto Rico. Therefore, the Department proposes to extend the current grant to the Puerto Rico Department of Education (H326C030042) for a sixth year and award an additional $65,000 to that agency. The Department also intends to announce a competition to permit Puerto Rico to apply for four additional years of funding. The Puerto Rico Department of Education Deaf-Blind TA project has demonstrated significant progress in providing TA services to families, educators, and other service providers since it was funded in 2003. The Puerto Rico Department of Education's current project period for its Deaf-Blind TA Project is scheduled to end on September 30, 2008. Deaf-blindness is a severe and complex disability. In order to ensure that continued TA is available to assist Puerto Rican families, educators, and other professionals who work with children who are deaf-blind, the Secretary proposes to waive the requirements in 34 CFR 75.250 and 75.261(a) and proposes to issue a continuation award to the existing grantee for an additional twelve-month period.

The Puerto Rico Department of Education will continue to build the capacity of the State, parents, and professionals to improve outcomes for children and young adults who are deaf-blind and their families by providing TA, information, and training on early intervention, special education, related services, and transitional services.

Regulatory Flexibility Act Certification

The Secretary certifies that the proposed extension of the project period and waiver will not have a significant economic impact on a substantial number of small entities. The only entity that would be affected is the Puerto Rico Department of Education.

Paperwork Reduction Act of 1995

This proposed extension of project period and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document:

You can view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: August 18, 2008.
Tracy R. Justesen,
Assistant Secretary for Special Education and Rehabilitative Services.

[FR Doc. E8-19563 Filed 8-21-08; 8:45 am]

BILLING CODE 4000-01-P